FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register . Copies of agreements are available through the Commission's Web site (http://www.fmc.gov) or contacting the Office of Agreements at (202) 523-5793 or tradeanalysis@fmc.gov.

Agreement No.: 012052.

Title: ZIM/CSCL Cross Slot Charter Agreement.

Parties: China Shipping Container Lines Co. Ltd.; China Shipping Container Lines (Hong Kong) Co., Ltd; and ZIM Integrated Shipping Service, Ltd.

Filing Party: Tara L. Leiter, Esq.; Blank Rome, LLP; Watergate; 600 New Hampshire Avenue NW.; Washington, DC 20037.

Synopsis: The agreement authorizes the parties to share vessel space in the trades between the United States and the Far East.

Agreement No.: 012052-001.

Title: ZIM/CSCL Cross Slot Charter Agreement.

Parties: China Shipping Container Lines Co. Ltd.; China Shipping Container Lines (Hong Kong) Co., Ltd; and ZIM Integrated Shipping Service, Ltd.

Filing Party: Tara L. Leiter, Esq.; Blank Rome, LLP; Watergate; 600 New Hampshire Avenue NW.; Washington, DC 20037.

Synopsis: The amendment would add Jamaica to the geographic scope of the agreement.

Agreement No.: 012053.

Title: CSAV/NYK Peru Space Charter Agreement.

Parties: Compania Sud Americana de Vapores S.A. and Nippon Yusen Kaisha.

Filing Party: Michael B. Holt, Esq.; Vice President and General Counsel; NYK Line (North America), Inc.; 300 Lighting Way, 5th Floor; Secaucus, NJ 07094.

Synopsis: The agreement authorizes CSAV to charter space to NYK in the trade from Baltimore, MD to ports in Peru.

Agreement No.: 201196.

Title: Los Angeles and Long Beach Marine Terminal Agreement.

Parties: City of Los Angeles and City of Long Beach.

Filing Party: Matthew J. Thomas, Esq.; Troutman Sanders LLP; 401 9th Street NW., Suite 1000; Washington, DC 20004.

Synopsis: The agreement would establish the terms and conditions under which drayage trucks are permitted access to ports of Los Angeles and Long Beach.

By Order of the Federal Maritime Commission.
Dated: October 3, 2008.
Tanga S. FitzGibbon,
Alternate Federal Register Liaison Officer.

[FR Doc. E8-23870 Filed 10-7-08; 8:45 am]

BILLING CODE 6730-01-P